DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of March 1, 2019 through March 31, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii) (I) imports of articles or services like or directly competitive with articles produced or services supplied by such firm have increased; OR

(II) (aa) imports of articles like or directly competitive with articles into which one or more component parts produced by such firm are directly incorporated, have increased; OR

(II) (bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,427 | General Motors Lordstown Complex, General Motors Company, Development Dimensions International | Warren, OH | March 8, 2019.

The following certifications have been issued. The requirements of Section 222(a)(2)(B) (Shift in Production or Services to a Foreign Country Path or Acquisition of Articles or Services from a Foreign Country Path) of the Trade Act have been met.

TA-W No. | Subject firm | Location | Impact date
94,281 | Caterpillar Inc., Mining Hauling and Underground Division, Aerotek, DVA Consulting | Montgomery, IL | October 26, 2017.
94,453 | GY Agemni, LLC, DNN Corp, ESW Capital, AdvanStaff, Inc | Salt Lake City, UT | January 11, 2018.
94,471 | Lexmark International, Inc., Finance, Managed Print Services (MPS) Business Operations, etc | Lexington, KY | January 21, 2018.
94,473 | Sugarfina, Inc., Express Employment Professionals, Aerotek, First Rate Staffing | El Segundo, CA | January 18, 2018.
94,476 | AXA Equitable Life Insurance Company, AXA Financial, Inc., Group Retirement Operations Department, Kelly Services | Syracuse, NY | January 22, 2018.
94,479 | Renwood Acquisitions, LLC, Heckethorn Manufacturing, Metro Industrial Services, Personnel Placements | Dyersburg, TN | January 22, 2018.
94,482 | Xerox Corporation, North American Finance, Global Procurement Departments | Webster, NY | January 23, 2018.
94,483 | Xerox Corporation, Information Management, Tata Consultancy Services | Webster, NY | January 23, 2018.
94,509 | Bureau of National Affairs, Inc., Bloomberg BNA Holdings, Inc | Arlington, VA | February 4, 2018.
94,513 | R1 RCM | Austin, TX | February 5, 2018.
94,515 | Windstream Services, LLC, Little Rock Division, IT and Accounts Payable Divisions | Little Rock, AR | February 5, 2018.
94,530 | Jabil Circuit, Inc., Nypro Division, Fountain Group LLC, Adecco | Rochester, NY | April 14, 2019.
94,534 | Elavon, Inc., U.S. Bank, National Association, Department of Account Reconciliations | Knoxville, TN | February 11, 2018.
94,538. | ABC-I Corporation | Dexter, NY | February 13, 2018.
94,538A | ABC-I Corporation | Jacksonville, FL | February 13, 2018.
94,541 | A.L.P. Lighting Components, Inc., Olive Branch, A.L.P. Lighting Components, Select Staffing, Millennium Search | Olive Branch, MS | February 12, 2018.
94,550 | CA Technologies, Broadcom Inc | Santa Clara, CA | February 19, 2018.
94,552 | RBIII Associates, Inc. dba Teamwork Athletic Apparel, Badger Sportswear, Inc | San Marcos, CA | February 19, 2018.
94,554 | Jagger Brothers | Springvale, ME | February 20, 2018.
94,572 | Bank of the West, Banc West Holding, I.T. Application Support Group, Allegis Global Solutions | City of Industry, CA | February 28, 2018.
94,574 | Hanesbrands, Inc., NYC Design | New York, NY | February 27, 2018.
94,579 | Beckman Coulter, Inc., Danaher, Manufacturing for Statspin, Immage and Microscan, Kelly Services | Brea, CA | March 1, 2018.
94,581 | KEMET Blue Powder Corporation, KEMET Corporation, ResourceMFG/ProLogistix, Aerotek | Mound House, NV | March 3, 2018.
94,585 | A360 Firm Solutions, LLC, A360Inc, Outsourcing Division | Jacksonville, FL | March 1, 2018.
94,585A | A360 Firm Solutions, LLC, A360Inc, Outsourcing Division | Mount Laurel, NJ | March 1, 2018.
94,590 | Austin Foam Plastic, Inc., Lifestyle Staffing | El Paso, TX | March 5, 2018.
94,595 | The Travelers Indemnity Company, Small Commercial Operations Group | Elmira, NY | March 5, 2018.
94,596 | GMI Holdings Inc., Overhead Door Corp., Mancan, Randstad, Flex Team | Baltic, OH | March 6, 2018.

The following certifications have been issued. The requirements of Section 222(b) (supplier to a firm whose workers are certified eligible to apply for TAA) of the Trade Act have been met.

TA-W No. | Subject firm | Location | Impact date
94,504 | Populus Group, Caterpillar Corporate Account Group | Troy, MI | January 31, 2018.
94,525 | REO Distribution Services, Inc., Allied Realty Company, Adams & Garth | Waynesboro, VA | February 7, 2018.

Negative Determinations for Worker Adjustment Assistance

In the following cases, the investigation revealed that the eligibility criteria for TAA have not been met for the reasons specified.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,276 | Faneuil, Inc., ALJ Regional Holdings, Inc., Resource Management Inc | Vienna, VA
94,478 | Keystone Tailored Manufacturing LLC | Brooklyn, OH

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,201 | Culp Woven Velvet, Culp Upholstery Fabric Division, Culp Inc., Manpower | Anderson, SC
94,251 | Ernest Industries, Advance Staffing | Westland, MI
94,409 | Verizon Data Services, LLC, Member Technical Staff (MTS) | Temple Terrace, FL

Determinations Terminating Investigations of Petitions for Trade Adjustment Assistance

After notice of the petitions was published in the Federal Register and on the Department's website, as required by Section 221 of the Act (19 U.S.C. 2271), the Department initiated investigations of these petitions.

The following determinations terminating investigations were issued because the worker group on whose behalf the petition was filed is covered under an existing certification.

TA-W No. | Subject firm | Location | Impact date
94,600 | General Electric Company, GE Transportation Parts, Transportation Division, etc | Erie, PA

The following determinations terminating investigations were issued because the Department issued a negative determination applicable to the petitioning group of workers. No new information or change in circumstances is evident which would result in a reversal of the Department's previous determination.

TA-W No. | Subject firm | Location | Impact date
93,972 | Toys R Us—Delaware, Inc., Toys R Us, Inc | Newport News, VA
93,972A | Toys R Us—Delaware, Inc., Toys R Us, Inc | Fredericksburg, VA
93,972B | Toys R Us—Delaware, Inc., Toys R Us, Inc | Chesapeake, VA
93,972C | Toys R Us—Delaware, Inc., Toys R Us, Inc., 400 N. Military Highway | Norfolk, VA
93,972D | Toys R Us—Delaware, Inc., Toys R Us, Inc., 1600 Premium Outlets Boulevard | Norfolk, VA
93,972E | Toys R Us—Delaware, Inc., Toys R Us, Inc | Virginia Beach, VA
93,972F | Babies R Us, Toys R Us—Delaware, Inc., Toys R Us, Inc | Newport News, VA
93,972G | Babies R Us, Toys R Us—Delaware, Inc., Toys R Us, Inc | Chesapeake, VA

I hereby certify that the aforementioned determinations were issued during the period of March 1, 2019 through March 31, 2019. These determinations are available on the Department's website https://www.doleta.gov/tradeact/petitioners/taa_search_form.cfm under the searchable listing determinations or by calling the Office of Trade Adjustment Assistance toll free at 888-365-6822.

Signed at Washington, DC, this 11th day of April 2019.
Hope D. Kinglock,
Certifying Officer, Office of Trade Adjustment Assistance.

[FR Doc. 2019-09985 Filed 5-14-19; 8:45 am]

BILLING CODE 4510-FN-P